NUCLEAR REGULATORY COMMISSION

[NRC-2025-0092]

Monthly Notice; Applications and Amendments To Facility Operating Licenses and Combined Licenses Involving No Significant Hazards Considerations

AGENCY: Nuclear Regulatory Commission.

ACTION: Monthly notice.

SUMMARY: Pursuant to section 189a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by July 10, 2025. A request for a hearing or petitions for leave to intervene must be filed by August 11, 2025. This monthly notice includes all amendments issued, or proposed to be issued, from April 24, 2025, to May 22, 2025. The last monthly notice was published on May 14, 2025.

ADDRESSES: You may submit comments by any of the following methods (unless this document describes a different method for submitting comments on a specific subject); however, the NRC encourages electronic comment submission through the Federal rulemaking website.

• Federal rulemaking website: Go to https://www.regulations.gov and search for Docket ID NRC-2025-0092. Address questions about Docket IDs in Regulations.gov to Bridget Curran; telephone: 301-415-1003; email: Bridget.Curran@nrc.gov. For technical questions, contact the individual listed in the “For Further Information Contact” section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Susan Lent, Office of Nuclear Reactor Regulation, U.S. Nuclear Regulatory Commission, Washington, DC 20555-0001; telephone: 301-415-1365; email: Susan.Lent@nrc.gov.

SUPPLEMENTARY INFORMATION:

I. Obtaining Information and Submitting Comments

A. Obtaining Information

Please refer to Docket ID NRC-2025-0092, facility name, unit number(s), docket number(s), application date, and subject when contacting the NRC about the availability of information for this action. You may obtain publicly available information related to this action by any of the following methods:

• Federal Rulemaking Website: Go to https://www.regulations.gov and search for Docket ID NRC-2025-0092.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2025-0092, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments To Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Arizona Public Service Company, et al; Palo Verde Nuclear Generating Station, Units 1, 2, and 3; Maricopa County, AZ
Docket Nos. | 50-528, 50-529, 50-530.
Application Date | April 8, 2025.
ADAMS Accession No. | ML25098A330.
Location in Application of NSHC | Pages 11-13 of the Enclosure.
Brief Description of Amendments | The proposed amendments would approve changes to the Palo Verde Nuclear Generating Station Emergency Plan Shift Manager/Emergency Coordinator staffing requirements and staff augmentation timeframe.
Proposed Determination | NSHC.
Name of Attorney for Licensee, Mailing Address | Carey Fleming, Senior Counsel, Pinnacle West Capital Corporation, 500 N 5th Street, MS 8695, Phoenix, AZ 85004.
NRC Project Manager, Telephone Number | William Orders, 301 415-3329.
Constellation Energy Generation, LLC; Zion Nuclear Power Station, Units 1 and 2; Lake County, IL
Docket Nos. | 50-295, 50-304, 72-1037.
Application Date | March 7, 2025.
ADAMS Accession No. | ML25066A171.
Location in Application of NSHC | Pages 8-9 of Attachment 1.
Brief Description of Amendments | The proposed amendments would delete certain license conditions relating to the License Termination Plan and delete license conditions relating to the terms and conditions of decommissioning trust agreements, and, instead, conform to the 10 CFR 50.75(h) regulations.
Proposed Determination | NSHC.
Name of Attorney for Licensee, Mailing Address | Jason Zorn, Associate General Counsel, Constellation Energy Generation, LLC 4300 Winfield Road Warrenville, IL 60555.
NRC Project Manager, Telephone Number | Kristina Banovac, 301-415-7116.
Dominion Energy Nuclear Connecticut, Inc.; Millstone Power Station, Unit 3; New London County, CT
Docket No. | 50-423.
Application Date | April 22, 2025.
ADAMS Accession No. | ML25113A202.
Location in Application of NSHC | Pages 3-5 of Attachment 1.
Brief Description of Amendment | The proposed amendment would adopt Technical (TS) Specifications Task Force (TSTF) Traveler TSTF-577, Revision 1, “Revised Frequencies for Steam Generator Tube Inspections.” The amendment would revise the TSs related to steam generator tube inspections and reporting requirements in TS section 6.8.4.g, “Steam Generator (SG) Program,” and TS section 6.9.1.7, “Steam Generator Tube Inspection Report,” respectively, based on operating history.
Proposed Determination | NSHC.
Name of Attorney for Licensee, Mailing Address | W.S. Blair, Senior Counsel, Dominion Energy Services, Inc., 120 Tredegar St., RS-2, Richmond, VA 23219.
NRC Project Manager, Telephone Number | Richard Guzman, 301-415-1030.
Energy Northwest; Columbia Generating Station; Benton County, WA
Docket No. | 50-397.
Application Date | March 21, 2025.
ADAMS Accession No. | ML25083A158.
Location in Application of NSHC | Pages 8-10 of the Enclosure.
Brief Description of Amendment | The proposed amendment would modify Columbia Generating Station Technical Specification 3.3.2.1, “Control Rod Block Instrumentation,” Required Action C.2.1.2, which restricts reactor startup with an inoperable Rod Worth Minimizer to once per calendar year. The proposed change to Required Action C.2.1.2 would allow additional reactor startups with a new action to verify performance of coupling checks for the first 12 control rods withdrawn.
Proposed Determination | NSHC.
Name of Attorney for Licensee, Mailing Address | Ryan Lukson, Assistant General Counsel, Energy Northwest, MD 1020, P.O. Box 968, Richland, WA 99352.
NRC Project Manager, Telephone Number | Mahesh Chawla, 301-415-8371.
Florida Power & Light Company; Turkey Point Nuclear Generating Unit 3 and 4; Miami-Dade County, FL
Docket Nos. | 50-250, 50-251.
Application Date | March 26, 2025.
ADAMS Accession No. | ML25085A134.
Location in Application of NSHC | Pages 6-8 of the Enclosure.
Brief Description of Amendments | The proposed amendments would revise Technical Specifications 3.4.9, Pressurizer, by removing the Pressurizer heater group emergency power supply requirements.
Proposed Determination | NSHC.
Name of Attorney for Licensee, Mailing Address | James Petro, Managing Attorney—Nuclear, Florida Power and Light Company 700 Universe Boulevard, MS LAW/JB, Juno Beach, FL 33408-0420.
NRC Project Manager, Telephone Number | Blake Purnell, 301-415-1380.
Northern States Power Company; Prairie Island Nuclear Generating Plant, Units 1 and 2; Goodhue County, MN
Docket Nos. | 50-282, 50-306.
Application Dates | March 12, 2025, as supplemented by letter dated April 15, 2025.
ADAMS Accession No. | ML25071A416, ML25105A222.
Location in Application of NSHC | Pages 3-5 of the Enclosure.
Brief Description of Amendments | The proposed amendments would adopt Technical Specification (TS) Task Force—541, “Add Exceptions to Surveillance Requirements for Valves and Dampers Locked in the Actuated Position,” which is an approved change to the Standard TS, into the Prairie Island Nuclear Generating Plant, Units 1 and 2, TSs and modifies certain TS Surveillance Requirements (SRs) by adding exceptions to consider the SR met when automatic valves or dampers are locked, sealed, or otherwise secured in the actuated position, in order to consider the SR met. Securing the automatic damper in the actuated position may affect the operability of the system or any supported systems. The associated Limiting Condition for Operation is met if the subject structure, system or component remains operable (i.e., capable of performing its specified safety function).
Proposed Determination | NSHC.
Name of Attorney for Licensee, Mailing Address | Tim Mastrogiacomo, VP, Federal Regulatory, Legal and Policy Xcel Energy 701 Pennsylvania Ave. NW, Suite 250 Washington, DC 20004.
NRC Project Manager, Telephone Number | Beth Wetzel, 301-415-5223.
Pacific Gas and Electric Company; Diablo Canyon Nuclear Power Plant, Units 1 and 2; San Luis Obispo County, CA
Docket Nos. | 50-275, 50-323.
Application Date | March 26, 2025.
ADAMS Accession No. | ML25085A409.
Location in Application of NSHC | Pages 12-14 of Enclosure 1.
Brief Description of Amendments | The proposed amendments would modify Technical Specifications (TS) 4.2.1, “Fuel Assemblies,” and TS 5.6.5 “Core Operating Limits Report (COLR),” to allow the use of Optimized ZIRLO as an approved fuel rod cladding material.
Proposed Determination | NSHC.
Name of Attorney for Licensee, Mailing Address | Jennifer Post, Esq., Pacific Gas and Electric Co., 77 Beale Street, Room 3065, Mail Code B30A, San Francisco, CA 94105.
NRC Project Manager, Telephone Number | Samson Lee, 301-415-3168.
Southern Nuclear Operating Company, Inc.; Edwin I. Hatch Nuclear Plant, Units 1 and 2; Appling County, GA
Docket Nos. | 50-321, 50-366.
Application Date | April 18, 2025.
ADAMS Accession No. | ML25108A112.
Location in Application of NSHC | Pages E1-E3 of the Enclosure.
Brief Description of Amendments | The proposed amendments would modify the Edwin I. Hatch Nuclear Plant, Units 1 and 2, Technical Specifications (TSs) to adopt Technical Specifications Task Force Traveler-584 (TSTF-584) “Eliminate Automatic RWCU [Reactor Water Cleanup] System Isolation on SLC [Standby Liquid Control] Initiation”. TSTF-584 revises the TS to remove the requirement that the RWCU System automatically isolate on manual initiation of the SLC System.
Proposed Determination | NSHC.
Name of Attorney for Licensee, Mailing Address | Millicent Ronnlund, Vice President and General Counsel, Southern Nuclear Operating Co., Inc., P.O. Box 1295, Birmingham, AL 35201-1295.
NRC Project Manager, Telephone Number | Rachael Davis, 301-415-0805.
Susquehanna Nuclear, LLC and Allegheny Electric Cooperative, Inc.; Susquehanna Steam Electric Station, Units 1 and 2; Luzerne County, PA
Docket Nos. | 50-387, 50-388.
Application Date | April 8, 2025.
ADAMS Accession No. | ML25098A331.
Location in Application of NSHC | Pages 7-9 of Attachment 1.
Brief Description of Amendments | The proposed amendments would revise the Technical Specifications to change the leakage rate measurement from the main steam isolation valve to the main steam line.
Proposed Determination | NSHC.
Name of Attorney for Licensee, Mailing Address | Jason Usher, 600 Hamilton Street, Suite 600, Allentown, PA 18101.
NRC Project Manager, Telephone Number | Audrey Klett, 301-415-0489.
Tennessee Valley Authority; Browns Ferry Nuclear Plant, Units 1, 2, and 3; Limestone County, AL
Docket Nos. | 50-259, 50-260, 50-296.
Application Date | April 10, 2025.
ADAMS Accession No. | ML25100A124.
Location in Application of NSHC | Pages E1-9-E1-10 of Enclosure 1.
Brief Description of Amendments | The proposed amendments would revise the Browns Ferry Nuclear Plant, Units 1, 2, and 3, Technical Specifications by adopting Technical Specifications Task Force (TSTF) Traveler TSTF-423-A, Revision 1, “Technical Specifications End States, NEDC-32988-A.” Specifically, the proposed amendments would modify the end state for selected Required Actions to allow the plants to stay in MODE 3. The proposed amendments would also revise the lettering of some TS Conditions to accommodate the addition of new Conditions needed to meet the intent of TSTF-423-A, Revision 1, as well as revise the wording of a few Conditions and Required Actions due to the plant-specific design of the Browns Ferry Units.
Proposed Determination | NSHC.
Name of Attorney for Licensee, Mailing Address | David Fountain, Executive VP and General Counsel, Tennessee Valley Authority, 400 West Summit Hill Drive, WT 6A-K, Knoxville, TN 37902.
NRC Project Manager, Telephone Number | Kimberly Green, 301-415-1627.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Constellation Energy Generation, LLC; Braidwood Station, Units 1 and 2, Will County, IL; Byron Station, Units 1 and 2, Ogle County, IL; Constellation Energy Generation, LLC; Calvert Cliffs Nuclear Power Plant, Units 1 and 2; Calvert County, MD; Constellation Energy Generation, LLC; R. E. Ginna Nuclear Power Plant; Wayne County, New York
Docket Nos. | 50-456, 50-457, 50-454, 50-455, 50-317, 50-318, 50-244.
Amendment Date | May 19, 2025.
ADAMS Accession No. | ML25132A150.
Amendment Nos. | Braidwood 240 (Unit 1), 240 (Unit 2); Byron 239 (Unit 1) , 239 (Unit 2); Calvert Cliffs 353 (Unit 1), 329 (Unit 2); Ginna 158.
Brief Description of Amendments | The amendments revised the Technical Specifications (TSs) for each facility in accordance with Technical Specifications Task Force (TSTF) Traveler-475, Revision 1, “Control Rod Notch Testing Frequency and SRM [Source Range Monitoring] Insert Control Rod Action,” Specifically, TSTF-475 revises the standard TS to clarify requirements for surveillance frequency intervals in Section 1.4, “Frequency,” which provides descriptions and examples for the proper use and application of frequency requirements.
Public Comments Received as to Proposed NSHC (Yes/No) | No.
Constellation Energy Generation, LLC; Three Mile Island Nuclear Station, Unit 1; Dauphin County, PA
Docket No. | 50-289.
Amendment Date | May 13, 2025.
ADAMS Accession No. | ML25100A006.
Amendment No. | 306.
Brief Description of Amendment | The amendment modified the license to reflect a change in the name of the facility from “Three Mile Island Nuclear Station, Unit 1” to “Christopher M. Crane Clean Energy Center”.
Public Comments Received as to Proposed NSHC (Yes/No) | No.
DTE Electric Company; Fermi, Unit 2; Monroe County, MI
Docket No. | 50-341.
Amendment Date | May 2, 2025.
ADAMS Accession No. | ML25086A180.
Amendment No. | 231.
Brief Description of Amendment | The amendment modified Technical Specification requirements to permit use of risk-informed completion times in accordance with Technical Specification Task Force (TSTF) Travelers, TSTF-505, Revision 2, “Provide Risk-Informed Extended Completion Times—RITSTF [Risk-Informed TSTF] Initiative 4b,” TSTF-439, Revision 2, “Eliminate Second Completion Times Limiting Time from Discovery of Failure to Meet an LCO [Limiting Conditions for Operation],” and TSTF-591, Revision 0, “Revise the Risk-Informed Completion Time (RICT) Program”.
Public Comments Received as to Proposed NSHC (Yes/No) | No.
Duke Energy Carolinas, LLC; Oconee Nuclear Station, Units 1, 2, and 3; Oconee County, SC
Docket Nos. | 50-269, 50-270, 50-287.
Amendment Date | April 24, 2025.
ADAMS Accession No. | ML25087A128.
Amendment Nos. | 431 (Unit 1), 433 (Unit 2), 432 (Unit 3).
Brief Description of Amendments | The amendments revised Technical Specification (TS) 3.7.7, “Low Pressure Service Water (LPSW) System,” by allowing a one-time extended completion time for one required inoperable LPSW pump. The amendment modified the current Completion Time Note associated with TS 3.7.7, Condition A, Required Action A.1, to 360 hours to be used once during an Oconee Unit 2 refueling outage. The extended Completion Time Note has an expiration date of December 31, 2027.
Public Comments Received as to Proposed NSHC (Yes/No) | No.
Nine Mile Point Nuclear Station, LLC and Constellation Energy Generation, LLC; Nine Mile Point Nuclear Station, Unit 1; Oswego County, NY
Docket No. | 50-220.
Amendment Date | April 29, 2025.
ADAMS Accession No. | ML25097A220.
Amendment No. | 255.
Brief Description of Amendment | The amendment revised the Nine Mile Point, Unit 1 (NMP1), Technical Specification (TS) Limiting Conditions for Operation (LCO) 3.3.7, “Containment Spray System,” to allow both containment spray system (CSS) loops or one CSS loop and one train in the redundant loop to be inoperable for 8 hours. The amendment is consistent with NRC-approved Technical Specification Task Force (TSTF) Traveler-230, Revision 1, “Add New Condition B to LCO 3.6.2.3, RHR [Residual Heat Removal] Suppression Pool Cooling” (ML040570110 and ML19067A141) and the Standard Technical Specifications, NUREG 1433, “Standard Technical Specifications General Electric Plants, BWR/4,” Revision 5 (ML21272A357). NMP1 does not have a RHR system or improved TSs, therefore, the applicable LCO for NMP1 is TS 3.3.7. This is considered a technical variation to TSTF-230, Revision 1, and is discussed in the staff's safety evaluation.
Public Comments Received as to Proposed NSHC (Yes/No) | No.
Northern States Power Company; Prairie Island Nuclear Generating Plant, Units 1 and 2; Goodhue County, MN
Docket Nos. | 50-282, 50-306.
Amendment Date | May 7, 2025.
ADAMS Accession No. | ML25106A307.
Amendment Nos. | 246 (Unit 1) and 234 (Unit 2).
Brief Description of Amendments | The amendments modified the Prairie Island Nuclear Generating Plant, Units 1 and 2, Technical Specifications (TS) to adopt Technical Specifications Task Force (TSTF)-591, “Revise Risk Informed Completion Time (RICT) Program” TSTF-591 revises TS section 5.5, “Risk Informed Completion Time Program” to reference Regulatory Guide 1.200, Revision 3, instead of Revision 2, and to make other changes. Also, a new report would be added to TS section 5.6, “Reporting Requirements,” to inform the NRC of newly developed methods used to calculate a RICT.
Public Comments Received as to Proposed NSHC (Yes/No) | No.
Pacific Gas and Electric Company; Diablo Canyon Nuclear Power Plant, Units 1 and 2; San Luis Obispo County, CA
Docket Nos. | 50-275, 50-323.
Amendment Date | May 1, 2025.
ADAMS Accession No. | ML25080A305.
Amendment Nos. | 249 (Unit 1) and 251 (Unit 2).
Brief Description of Amendments | The amendments revised Technical Specifications 3.3.5, “Loss of Power (LOP) Diesel Generator (DG) Start Instrumentation,” and 3.8.2, “AC [alternating current] Sources—Shutdown,” to adopt Technical Specifications Task Force (TSTF) Traveler TSTF-589, “Eliminate Automatic Diesel Generator Start During Shutdown,” which is an approved change to the Standard Technical Specifications.
Public Comments Received as to Proposed NSHC (Yes/No) | No.
Southern Nuclear Operating Company, Inc.; Vogtle Electric Generating Plant, Units 3 and 4; Burke County, GA
Docket Nos. | 52-025, 52-026.
Amendment Date | February 28, 2025.
ADAMS Accession No. | ML25052A020.
Amendment Nos. | 199 (Unit 3) and 195 (Unit 4).
Brief Description of Amendments | The amendments revised Technical Specification (TS) 3.7.6, “Main Control Room Emergency [MCR] Habitability System (VES),” Action A, and Surveillance Requirement 3.7.6.6 related to inoperable valves and/or dampers.
Public Comments Received as to Proposed NSHC (Yes/No) | No.
Southern Nuclear Operating Company, Inc.; Vogtle Electric Generating Plant, Units 3 and 4; Burke County, GA
Docket Nos. | 52-025, 52-026.
Amendment Date | March 24, 2025.
ADAMS Accession No. | ML25034A221.
Amendment Nos. | 200 (Unit 3) and 196 (Unit 4).
Brief Description of Amendments | The amendments revised Technical Specifications (TS) 3.7.6, “Main Control Room Emergency Habitability System (VES),” Actions, Condition E, Required Actions E.1 and E.3, and Surveillance Requirement (SR) 3.7.6.5. The amendments revised the Combined License Appendix A, TS 3.7.6, Actions, Condition E, Required Actions E.1 and E.3, concerning VES compressed air storage tanks compressed air not within limits and SR 3.7.6.5 to change the compressed air quality requirement specification from “ASHRAE Standard 62,” to Compressed Gas Association (CGA) CGA G-7.1-1997, “Commodity Specification for Air, Grade E.” The amendments also revise the Updated Final Safety Analysis Report Subsection 6.4.5.3, “Air Quality Testing.”
Public Comments Received as to Proposed NSHC (Yes/No) | No.
Tennessee Valley Authority; Watts Bar Nuclear Plant, Units 1 and 2; Rhea County, TN
Docket Nos. | 50-390, 50-391.
Amendment Date | May 8, 2025.
ADAMS Accession No. | ML25087A090.
Amendment Nos. | 176 (Unit 1), 81 (Unit 2).
Brief Description of Amendments | The amendments revised the Watts Bar Dual-Unit Updated Final Safety Analysis (UFSAR), Section 2.4, “Hydrologic Engineering,” and related tables and figures to reflect the revised hydrologic analysis that utilizes the probable maximum precipitation (PMP) methodology provided in Topical Report TVA-NPG-AWA16-A, “TVA Overall Basin Probable Maximum Precipitation and Local Intense Precipitation Analysis, Calculation CDQ0000002016000041,” including changes in the PMP used in the local intense precipitation and the rivers and streams flooding models; revised the geometry and reservoir overbank storage in the corrected Hydrologic Engineering Center River Analysis System (HEC-RAS) model; updated wind speed used in the wind wave analysis; updated seismically induced dam failure flooding analysis to current NRC Japan Lessons Learned Project Directorate (JLD) guidance, NRC JLD-ISG-2013-01, “Guidance for Assessment of Flooding Hazards Due to Dam Failure”; and revised the warning time plan resulting from these changes. The amendments also deleted UFSAR Appendix 2.4A, “SOCH [Simulated Open Channel Hydraulics] Model,” due to the replacement of the SOCH software with the HEC-RAS software.
Public Comments Received as to Proposed NSHC (Yes/No) | No.

IV. Notice of Issuance of Amendment to Facility Operating Licenses and Combined Licenses and Final Determination of No Significant Hazards Consideration and Opportunity for a Hearing (Exigent Circumstances or Emergency Situation)

Since publication of the last monthly notice, the Commission has issued the following amendment. The Commission has determined for this amendment that the application for the amendment complies with the standards and requirements of the Atomic Energy Act of 1954, as amended (the Act), and the Commission's rules and regulations. The Commission has made appropriate findings as required by the Act and the Commission's rules and regulations in 10 CFR chapter I, which are set forth in the license amendment.

Because of exigent circumstances or emergency situation associated with the date the amendment was needed, there was not time for the Commission to publish, for public comment before issuance, its usual notice of consideration of issuance of amendment, proposed NSHC determination, and opportunity for a hearing.

In circumstances where failure to act in a timely way would have resulted, for example, in derating or shutdown of a nuclear power plant or in prevention of either resumption of operation or of increase in power output up to the plant's licensed power level (an emergency situation), the Commission may not have had an opportunity to provide for public comment on its NSHC determination. In such case, the license amendment has been issued without opportunity for comment prior to issuance. Nonetheless, the State has been consulted by telephone whenever possible.

Under its regulations, the Commission may issue and make an amendment immediately effective, notwithstanding the pendency before it of a request for a hearing from any person, in advance of the holding and completion of any required hearing, where it has determined that NSHC is involved. The Commission has applied the standards of 10 CFR 50.92 and has made a final determination that the amendments involve NSHC. The basis for this determination is contained in the NRC staff safety evaluation related to each action. Accordingly, the amendment has been issued and made effective as indicated.

For those amendments that involve an emergency situation, the Commission is now providing an opportunity to comment on the final NSHC determination for each action; comments should be submitted in accordance with Section I of this notice within 30 days of the date of this notice. Any comments received within 30 days of the date of publication this notice will be considered.

For those amendments that have not been previously noticed in the Federal Register, within 60 days after the date of publication of this notice, any persons (petitioner) whose interest may be affected by this action may file a request for a hearing and petition for leave to intervene (petition) with respect to the action. Petitions shall be filed in accordance with the guidance concerning the Commission's “Agency Rules of Practice and Procedure” in 10 CFR part 2 as discussed in section II.A of this document.

Unless otherwise indicated, the Commission has determined that the amendment satisfies the criteria for categorical exclusion in accordance with 10 CFR 51.22. Therefore, pursuant to 10 CFR 51.22(b), no environmental impact statement or environmental assessment need be prepared for this amendment. If the Commission has prepared an environmental assessment under the special circumstances provision in 10 CFR 51.12(b) and has made a determination based on that assessment, it is so indicated in the safety evaluation for the amendment.

For further details with respect to these actions, see the amendment and associated documents such as the Commission's letter and safety evaluation, which may be obtained using the ADAMS accession numbers indicated in the following table. The safety evaluation will provide the ADAMS accession number(s) for the application for amendment and the Federal Register citation for any environmental assessment. All of these items can be accessed as described in the “Obtaining Information and Submitting Comments” section of this document.

License Amendment Issuance(s)—Exigent/Emergency Circumstances
Southern Nuclear Operating Company, Inc.; Vogtle Electric Generating Plant, Unit 4; Burke County, GA
Docket No. | 52-026.
Amendment Date | May 17, 2025.
ADAMS Accession No. | ML25136A381.
Amendment No. | 197.
Brief Description of Amendment | The amendment revised Technical Specification (TS) 3.7.6, “Main Control Room Emergency Habitability System (VES),” to add a one-time allowance to provide time to repair VES bottled air system valve leakage. The amendment is issued under emergency circumstances as described in the provisions of 10 CFR 50.91(a)(5) due to the time critical nature of the amendment.
Local Media Notice (Yes/No) | No.
Public Comments Requested as to Proposed NSHC (Yes/No) | No.

Dated: May 30, 2025.
For the Nuclear Regulatory Commission.
Jamie Pelton,
Director, Division of Operating Reactor Licensing, Office of Nuclear Reactor Regulation.

[FR Doc. 2025-10176 Filed 6-9-25; 8:45 am]

BILLING CODE 7590-01-P